DEPARTMENT OF COMMERCE

National Oceanic and Atmospheric Administration

Sanctuary System Business Advisory Council: Public Meeting

AGENCY: Office of National Marine Sanctuaries (ONMS), National Ocean Service (NOS), National Oceanic and Atmospheric Administration (NOAA), Department of Commerce (DOC).

ACTION: Notice of open meeting.

SUMMARY: Notice is hereby given of a meeting of the Sanctuary System Business Advisory Council. The meeting is open to the public, and participants may provide comments at the appropriate time during the meeting.

DATES: The meeting will be held Wednesday, January 29, from 9:00 a.m. to 5:00 p.m. EST. Opportunity for public comment will be provided at 4:30. These times and the agenda topics described below are subject to change.

ADDRESSES: The meeting will be held in the Polaris Suite of the Ronald Reagan Building and International Trade Center, 1300 Pennsylvania Avenue NW., Washington, DC, 2004.

FOR FURTHER INFORMATION CONTACT: Elizabeth Moore, Office of National Marine Sanctuaries, 1305 East West Highway, Silver Spring, Maryland 20910. (Phone: 301-713-7270, Fax: 301-713-0404; email: elizabeth.moore@noaa.gov).

SUPPLEMENTARY INFORMATION: ONMS serves as the trustee for 14 marine protected areas encompassing more than 170,000 square miles of ocean and Great Lakes waters from the Hawaiian Islands to the Florida Keys, and from Lake Huron to American Samoa. National marine sanctuaries protect our Nation's most vital coastal and marine natural and cultural resources, and through active research, management, and public engagement, sustains healthy environments that are the foundation for thriving communities and stable economies. One of the many ways ONMS ensures public participation in the designation and management of national marine sanctuaries is through the formation of advisory councils. The Sanctuary System Business Advisory Council (Council) has been formed to provide advice and recommendations to the Director regarding the relationship of the ONMS with the business community. Additional information on the Council can be found at http://sanctuaries.noaa.gov/management/bac/welcome.html.

Matters To Be Considered: This is the first meeting of the Council and as such will be devoted to introductory presentations and discussions about the National Marine Sanctuary System and the members of the Council. The agenda is subject to change. The agenda is available at http://sanctuaries.noaa.gov/management/bac/welcome.html.

Authority: 16 U.S.C. 1431, et seq.

(Federal Domestic Assistance Catalog Number 11.429 Marine Sanctuary Program)

Dated: January 7, 2014.
Daniel J. Basta,
Director, Office of National Marine Sanctuaries, National Ocean Service, National Oceanic and Atmospheric Administration.

[FR Doc. 2014-00619 Filed 1-15-14; 8:45 am]

BILLING CODE 3510-NK-P